DEPARTMENT OF HOMELAND SECURITY

Coast Guard

33 CFR Part 165

[Docket No. USCG-2020-0546]

Special Local Regulations; Swim Around Charleston, Charleston, SC

AGENCY: Coast Guard, DHS.

ACTION: Notice of enforcement of regulation.

SUMMARY: The Coast Guard will enforce a special local regulation for the Swim Around Charleston on October 11, 2020, from 8:30 a.m. until 4 p.m., to provide for the safety of life on navigable waterways during this event. The Coast Guard will enforce a temporary moving safety zone during the Swim Around Charleston, a swimming race occurring on the Wando River, the Cooper River, Charleston Harbor, and the Ashley River, in Charleston, South Carolina. The temporary moving safety zone is necessary to protect swimmers, participant vessels, spectators, and the general public during the event. Persons and vessels would be prohibited from entering the safety zone unless authorized by the Captain of the Port Charleston or a designated representative.

DATES: The regulation in 33 CFR 100.704 Table 1 to § 100.704, Item No. (9) will be enforced from 8:30 a.m. until 4 p.m. on October 11, 2020.

FOR FURTHER INFORMATION CONTACT: If you have questions about this proposed rulemaking, call or email Lieutenant Chad Ray, Sector Charleston Office of Waterways Management, Coast Guard; telephone (843) 740-3184, email Chad.L.Ray@uscg.mil.

SUPPLEMENTARY INFORMATION: The Coast Guard will enforce the special local regulation in 33 CFR 100.704, Table 1 to § 100.704, Item No. (9), for the Swim Around Charleston from 8:30 a.m. through 4 p.m. on October 11, 2020. This action is being taken to provide for the safety of life on navigable waterways during this event. The regulation in § 100.704, Table 1 to § 100.704, Item No. (9), specifies the location of the regulated area for the Swim Around Charleston, which encompasses a portion of the waterways during the 12 mile swim from Remley's Point on the Wando River in approximate position 32°48′49″ N, 79°54′27″ W, crosses the main shipping channel under the main span of the Ravenel Bridge, and finishes at the I-526 bridge and boat landing on the Ashley River in approximate position 32°50′14″ N, 80°01′23″ W. During the enforcement periods, as reflected in § 100.704(c)(1), if you are the operator of a vessel in the regulated area you must comply with directions from the Patrol Commander or any Official Patrol displaying a Coast Guard ensign.

In addition to this notice of enforcement in the Federal Register, the Coast Guard plans to provide notification of this enforcement period via the Local Notice to Mariners, Broadcast Notice to Mariners, and on-scene designated representatives.

Dated: September 22, 2020.
J.D. Cole,
Captain, U.S. Coast Guard, Captain of the Port Charleston.

[FR Doc. 2020-21380 Filed 9-29-20; 8:45 am]

BILLING CODE 9110-04-P